DEPARTMENT OF ENERGY

Federal Energy Regulatory Commission

Combined Notice of Filings

Take notice that the Commission has received the following Natural Gas Pipeline Rate and Refund Report filings:

Filings Instituting Proceedings

Docket Numbers: RP12-7-000.

Applicants: Rockies Express Pipeline LLC.

Description: Rockies Express Pipeline LLC submits tariff filing per 154.204: Negotiated Rate 2011-10-05 Concord to be effective 10/6/2011.

Filed Date: 10/05/2011.

Accession Number: 20111005-5043.

Comment Date: 5 p.m. Eastern Time on Monday, October 17, 2011.

Docket Numbers: RP12-8-000.

Applicants: Midcontinent Express Pipeline LLC.

Description: Midcontinent Express Pipeline LLC submits tariff filing per 154.204: Tariff Clean Up Filing to be effective 11/5/2011.

Filed Date: 10/06/2011.

Accession Number: 20111006-5079.

Comment Date: 5 p.m. Eastern Time on Tuesday, October 18, 2011.

Docket Numbers: RP12-9-000.

Applicants: Natural Gas Pipeline Company of America LLC.

Description: Penalty Revenue Crediting Report of Natural Gas Pipeline Company of America LLC.

Filed Date: 10/07/2011.

Accession Number: 20111007-5043.

Comment Date: 5 p.m. Eastern Time on Wednesday, October 19, 2011.

Docket Numbers: RP12-10-000.

Applicants: Trunkline Gas Company, LLC.

Description: Trunkline Gas Company, LLC submits tariff filing per 154.204: Negotiated Rates Filing, to be effective 10/8/2011.

Filed Date: 10/07/2011.

Accession Number: 20111007-5085.

Comment Date: 5 p.m. Eastern Time on Wednesday, October 19, 2011.

Docket Numbers: RP12-11-000.

Applicants: Gas Transmission Northwest LLC.

Description: Gas Transmission Northwest LLC submits tariff filing per 154.204, to be effective 6/27/2011.

Filed Date: 10/07/2011.

Accession Number: 20111007-5099.

Comment Date: 5 p.m. Eastern Time on Wednesday, October 19, 2011.

Docket Numbers: RP12-12-000.

Applicants: Trailblazer Pipeline Company LLC.

Description: Trailblazer Pipeline Company LLC submits tariff filing per 154.204: Negotiated Rate Filing—Shell Energy to be effective 9/1/2011.

Filed Date: 10/07/2011.

Accession Number: 20111007-5113.

Comment Date: 5 p.m. Eastern Time on Wednesday, October 19, 2011.

Docket Numbers: RP12-13-000.

Applicants: Williston Basin Interstate Pipeline Company.

Description: Williston Basin Interstate Pipeline Company submits tariff filing per 154.204: New Injection/Withdrawal Language to be effective 11/10/2011.

Filed Date: 10/11/2011.

Accession Number: 20111011-5010.

Comment Date: 5 p.m. Eastern Time on Monday, October 24, 2011.

Docket Numbers: CP11-550-000.

Applicants: Colorado Interstate Gas Company.

Description: Petition to Amend Certificate Order of Colorado Interstate Gas Company.

Filed Date: 09/23/2011.

Accession Number: 20110923-5103.

Comment Date: 5 p.m. Eastern Time on Wednesday, October 19, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-2456-001.

Applicants: Empire Pipeline, Inc.

Description: Empire Pipeline, Inc. submits tariff filing per 154.205(b): Changes—Tioga Expansion Project—Update to be effective 10/28/2011.

Filed Date: 10/05/2011.

Accession Number: 20111005-5062.

Comment Date: 5 p.m. Eastern Time on Monday, October 17, 2011.

Docket Numbers: RP10-1018-002.

Applicants: Paiute Pipeline Company.

Description: Paiute Pipeline Company submits tariff filing per: Place Facilities into Service re: Docket CP10-41 to be effective N/A.

Filed Date: 10/07/2011.

Accession Number: 20111007-5058.

Comment Date: 5 p.m. Eastern Time on Wednesday, October 19, 2011.

Docket Numbers: RP11-2577-001.

Applicants: Dominion Transmission, Inc.

Description: Dominion Transmission, Inc. submits tariff filing per 154.205(b): DTI—Abandonment of X-71 and X-72 Amendment to be effective 11/1/2011.

Filed Date: 10/07/2011.

Accession Number: 20111007-5028.

Comment Date: 5 p.m. Eastern Time on Wednesday, October 19, 2011.

Docket Numbers: RP11-2652-001.

Applicants: ANR Pipeline Company.

Description: ANR Pipeline Company submits tariff filing per 154.205(b): Amended Filing to RP11-2652 to be effective 11/1/2011.

Filed Date: 10/07/2011.

Accession Number: 20111007-5072.

Comment Date: 5 p.m. Eastern Time on Wednesday, October 19, 2011.

Docket Numbers: RP11-2638-001.

Applicants: Midwestern Gas Transmission Company.

Description: Midwestern Gas Transmission Company submits tariff filing per 154.205(b): Amendment to Non-Conforming Agreements (BP et al) to be effective 11/1/2011.

Filed Date: 10/06/2011.

Accession Number: 20111006-5121.

Comment Date: 5 p.m. Eastern Time on Tuesday, October 18, 2011.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: October 11, 2011.
Nathaniel J. Davis, Sr.,
Deputy Secretary.

[FR Doc. 2011-26862 Filed 10-17-11; 8:45 am]

BILLING CODE 6717-01-P